DEPARTMENT OF AGRICULTURE

Forest Service

Information Collection; Economic, Social, and Cultural Aspects of Livestock Ranching

AGENCY: Forest Service, USDA.

ACTION: Notice; request for comment.

SUMMARY: In accordance with the Paperwork Reduction Act of 1995, the Forest Service is seeking comments from all interested individuals and organizations on a new one-time information collection, Economic, Social, and Cultural Aspects of Livestock Ranching on the Santa Fe and Carson National Forests. The collection is necessary to provide baseline data on the economic, social, and cultural contributions of livestock ownership in northern New Mexico. The information provided by this study, will help the Forest Service administer grazing permits more effectively to better meet the needs of grazing permittees in northern New Mexico. The information will also be used for purposes of public education.

DATES: Comments must be received in writing on or before July 7, 2003 to be assured of consideration. Comments received after that date will be considered to the extent practicable.

ADDRESSES: Comments concerning this notice should be addressed to Carol Raish, Research Social Scientist, or to Alice M. McSweeney, Social Science Analyst, USDA Forest Service, Rocky Mountain Research Station, 333 Broadway SE., Suite 115, Albuquerque, NM 87102-3497.

Comments also may be submitted via facsimile to (505) 724-3688 or by e-mail to: craish@fs.fed.us or amcsweeney@fs.fed.us. The public may inspect comments received at 333 Broadway SE., Ste. 115, Albuquerque, NM 87106-3497 during normal business hours. Visitors are encouraged to call ahead to (505) 724-3666 to facilitate entry to the building.

FOR FURTHER INFORMATION CONTACT: Carol Raish, Rocky Mountain Research Station, telephone: (505) 724-3666, or Alice M. McSweeney, Rocky Mountain Research Station, telephone: (505) 724-3677. Individuals who use telecommunication devices for the deaf (TDD) may call the Federal Relay Service (FRS) at 1-800-877-8339 twenty-four hours a day, every day of the year, including holidays.

SUPPLEMENTARY INFORMATION:

Description of Information Collections

Title: Economic, Social, and Cultural Aspects of Livestock Ranching on the Santa Fe and Carson National Forests.

OMB Number: 0596-New.

Expiration Date of Approval: New.

Type of Request: New.

Abstract: Management of Federal lands is often hampered because land managing agencies lack sufficient information to understand and monitor socio-cultural values and changing attitudes toward land and resource use. This lack of up-to-date information impedes efforts of the Forest Service (FS) to work with livestock ranchers who graze their cattle under permit on Forest Service managed lands (permittees).

In northern New Mexico, many grazing permittees are descendants of Hispanic settlers who farmed and ranched in the area for 400 years. Prior to U.S. takeover of the region in 1848, much of the land now grazed under Federal permits was owned or used by local communities under Spanish and Mexican land grants. Cultural differences and historic problems over land use contribute to disagreements and misunderstandings between the permittees and Federal land managers.

The study for which this information collection is needed will encompass all grazing permittees on the Espanola District of the Santa Fe National Forest and the Canjilon District of the Carson National Forest. It will provide data on economic, social, and cultural contributions of livestock ownership to the grazing permittees of northern New Mexico. A prior pilot study conducted in 1998 on the two forests; along with studies conducted in the late 1960s and 1970s require updating and revision to provide the most current information. Additionally, the pilot study indicates that there is a need for a broader base of data.

The results of this research should help agency personnel manage the land more effectively and work more cooperatively with livestock grazing permittees. Such information may also serve to improve agency relations with area communities by promoting greater understanding of the local culture and the role of livestock ownership in that culture. As the public becomes more involved in the federal land management decision-making process, the need for public education on the relationship between land and the rural way of life increases.

To collect the required information, social science researchers from the Rocky Mountain Research Station, USDA Forest Service will personally administer a questionnaire to grazing permittees from the Santa Fe and Carson National Forests. Respondents who are unable to schedule an interview will have the option of returning their completed questionnaire by mail.

The data collected will describe the economic, social, and cultural contributions of livestock operations to grazing permittees including: (1) Background information on the permittee and his/her family; (2) background information on the livestock operation; (3) contribution of the livestock operation to the household economy; (4) contribution of the livestock operation to the cultural, and lifestyle; (5) land use values of the family and community. After completing the information collection, researchers will compile and analyze the data.

The compiled data from this study will be used to assist managers on the two forests to work more effectively with grazing permittees by encouraging increased intercultural understanding. Additionally, the collected information may be used in developing and updating grazing allotment plans and in developing forest plan revisions. This type of information is also valuable in public education programs concerning the rural culture of northern New Mexico. The results of this study will also serve as the foundation for multiple research publications.

Since this study is designed to provide information on small-scale livestock operations on Federal allotments, its implementation is of considerable importance. If this data is not collected, grazing allotment plans and forest plan revisions for the target forests will not be based on the most current and appropriate socio-cultural and economic information. Furthermore, agency relations with the community may be hindered from a lack of knowledge that might otherwise help to promote intercultural understanding and cooperation.

Estimate of Annual Burden: One and a half hours.

Type of Respondents: Livestock ranchers/owners who have permits to graze cattle or sheep on the Santa Fe and Carson National Forests in northern New Mexico.

Estimated Annual Number of Respondents: 600 respondents.

Estimated Annual Number of Responses per Respondent: One time. This is a one-time collection of information.

Estimated Total Annual Burden on Respondents: 900 total hours. This is a one-time collection of information.

Comment Is Invited

Comment is invited on: (1) Whether this collection of information is necessary for the stated purposes and the proper performance of the functions of the agency, including whether the information will have practical or scientific utility; (2) the accuracy of the agency's estimate of the burden of the collection of information, including the validity of the methodology and assumptions used; (3) ways to enhance the quality, utility, and clarity of the information to be collected; and (4) ways to minimize the burden of the collection of information on respondents, including the use of automated, electronic, mechanical, or other technological collection techniques or other forms of information technology.

Use of Comments

All comments received in response to this notice, including names and addresses when provided, will be a matter of public record. Comments will be summarized and included in the submission request toward Office of Management and Budget approval.

Dated: May 2, 2003.
Robert Lewis, Jr.,
Deputy Chief, Research and Development.

[FR Doc. 03-11409 Filed 5-7-03; 8:45 am]

BILLING CODE 3410-11-P